DEPARTMENT OF THE INTERIOR

Bureau of Safety and Environmental Enforcement

[Docket ID BSEE-2015-0006; OMB Control Number 1014-0023; 15XE1700DX EEEE500000 EX1SF0000.DAQ000]

Information Collection Activities: Pollution Prevention and Control; Submitted for Office of Management and Budget (OMB) Review; Comment Request

ACTION: 30-Day notice.

SUMMARY: To comply with the Paperwork Reduction Act of 1995 (PRA), the Bureau of Safety and Environmental Enforcement (BSEE) is notifying the public that we have submitted to OMB an information collection request (ICR) to renew approval of the paperwork requirements in the regulations under Subpart C, Pollution Prevention and Control. This notice also provides the public a second opportunity to comment on the revised paperwork burden of these regulatory requirements.

DATED: You must submit comments by November 9, 2015.

ADDRESSES: Submit comments by either fax (202) 395-5806 or email (OIRA_Submission@omb.eop.gov) directly to the Office of Information and Regulatory Affairs, OMB, Attention: Desk Officer for the Department of the Interior (1014-0023). Please provide a copy of your comments to BSEE by any of the means below.

• Electronically go to http://www.regulations.gov. In the Search box, enter BSEE-2015-0006 then click search. Follow the instructions to submit public comments and view all related materials. We will post all comments.

• Email cheryl.blundon@bsee.gov, fax (703) 787-1546, or mail or hand-carry comments to the Department of the Interior; Bureau of Safety and Environmental Enforcement; Regulations and Standards Branch; ATTN: Cheryl Blundon; 45600 Woodland Road, Sterling, VA 20166. Please reference ICR 1014-0023 in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION:

Title: 30 CFR 250, Subpart C, Pollution Prevention and Control.

OMB Control Number: 1014-0023.

Abstract: The Outer Continental Shelf (OCS) Lands Act at 43 U.S.C. 1334 authorizes the Secretary of the Interior (Secretary) to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1843(b) calls for “regulations requiring all materials, equipment, tools, containers, and all other items used on the Outer Continental Shelf to be properly color coded, stamped, or labeled, wherever practicable, with the owner's identification prior to actual use.”

In addition to the general authority of OCSLA, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 109(c)(2) and (d)(1), 30 U.S.C. 1719(c)(2) and (d)(1), impose substantial civil penalties for failure to permit lawful inspections and for knowing or willful preparation or submission of false, inaccurate, or misleading reports, records, or other information. The Secretary has delegated some of the authority under FOGRMA to BSEE.

This authority and responsibility are among those delegated to the Bureau of Safety and Environmental Enforcement (BSEE). These regulatory requirements concern pollution prevention and control and are the subject of this information collection request (ICR). This request also covers the related Notices to Lessees and Operators (NTLs) that BSEE issues to clarify, supplement, or provide additional guidance on some aspects of our regulations.

Regulations implementing these responsibilities are among those delegated to BSEE.

Responses are mandatory and are submitted on occasion. No questions of a sensitive nature are asked. BSEE protects information considered proprietary under the Freedom of Information Act (5 U.S.C. 552) and DOIs implementing regulations (43 CFR 2), and under regulations at 30 CFR part 250.197, Data and information to be made available to the public or for limited inspection, 30 CFR part 252, OCS Oil and Gas Information Program.

The information collected under Subpart C is used to ensure that:

• The lessee or operator records the location of items lost overboard to aid in recovery during site clearance activities on the lease;

• operations are conducted according to all applicable regulations, requirements, and in a safe and workmanlike manner;

• discharge or disposal of drill cuttings, sand, and other well solids, including those containing naturally occurring radioactive materials (NORM), are properly handled for the protection of OCS workers and the environment; and

• facilities are inspected daily for the prevention of pollution, and problems observed are corrected.

Frequency: On occasion or as required by regulations.

Description of Respondents: Potential respondents comprise OCS Federal oil, gas, or sulphur lessees and/or operators.

Estimated Reporting and Recordkeeping Hour Burden: The estimated annual hour burden for this information collection is a total of 137,955 hours. The following chart details the individual components and estimated hour burdens. In calculating the burdens, we assumed that respondents perform certain requirements in the normal course of their activities. We consider these to be usual and customary and took that into account in estimating the burden.

Burden Table
Citation 30 CFR 250 subpart C and related NTL(s) | Reporting and recordkeeping requirement * | Hour burden | Average number of annual responses | Annual burden hours
Pollution Prevention
300(b)(1), (2) | Obtain approval to add petroleum-based substance to drilling mud system or approval for method of disposal of drill cuttings, sand, & other well solids, including those containing NORM | Burden covered under APDs or APMs 1014-0025 or 1014-0026. |  | 0.
300(c) | Mark items that could snag or damage fishing devices | 1 hour | 133 markings | 133.
300(d) | Report and record items lost overboard | 1 hour ea × 2 = 2 hours | 116 reports/records | 232.
Subtotal |  |  | 249 responses | 365 hours.
Marine Trash and Debris Awareness/Elimination NTL
300(a), (b)(6), (c), (d); NTL | Submit request for training video Submit annual report to BSEE on training process and certification | 1 hour 1.5 hours | 106 requests 212 records | 106. 318.
| Training recordkeeping; make available upon request | 3 hours | 212 records | 636.
| Post placards on vessels and structures (exempt from information collection burden because BSEE is providing exact language for the trash and debris warning, similar to the “Surgeon General's Warning” exemption). |  |  | 0.
Subtotal |  |  | 530 responses | 1,060 hours.
Inspection of Facilities
301; NTL | Inspect drilling/production facilities for pollution; maintain inspection/repair records 2 years | 22 min ea inspection × 365 days p/yr/60 mins p/hr = 134 hours | 898 manned facilities | 120,332.
|  | 5 mins every 3rd day (365 days p/yr/3 = 121.6 days × 5 mins p/day/60 mins p/hr) = 10.14 hours | 1,596 unmanned facilities | 16,183.
Subtotal |  |  | 2,494 responses | 136,515 hours.
300-301 | General departure and alternative compliance requests not specifically covered elsewhere in subpart C regulations | 2.5 hours | 6 requests | 15.
Subtotal |  |  | 6 responses | 15 hours.
Total Burden |  |  | 3,279 responses | 137,955 hours.
* In the future, BSEE may require electronic filing of some submissions.

Estimated Reporting and Recordkeeping Non-Hour Cost Burden: We have not identified any non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on May 22, 2015, we published a Federal Register notice (80 FR 29738) announcing that we would submit this ICR to OMB for approval. The notice provided the required 60-day comment period. In addition, § 250.199 provides the OMB Control Number for the information collection requirements imposed by the 30 CFR 250, Subpart C regulations. The regulation also informs the public that they may comment at any time on the collections of information and provides the address to which they should send comments. We received three comments in response to the Federal Register notice or unsolicited comments from respondents covered under these regulations. Two comments, from the same private citizen, were not germane to the paperwork burden. The third comment, from a private citizen, “According to CFR 250.300 (C), marking media must be durable enough to withstand environmental conditions. Please let me know if paint sticks and aerosol paint is considered durable once it dries. This marking media has been used for decades in the offshore environment and is being questioned now.” Our response to the individual was, “For past 15 years or so, defined items not considered durable for marking are as follows: chalk, grease pencil or crayon, marking pens, non-waterproof decals, and water-based paints. Therefore, a paint stick that uses a water-based paint would not be allowed and paint from a spray can that is water-based would not be allowed. ”

Public Availability of Comments: Before including your address, phone number, email address, or other personal identifying information in your comment, you should be aware that your entire comment—including your personal identifying information—may be made publicly available at any time. While you can ask us in your comment to withhold your personal identifying information from public review, we cannot guarantee that we will be able to do so.

Dated: September 21, 2015.
Robert W. Middleton,
Deputy Chief, Office of Offshore Regulatory Programs.

[FR Doc. 2015-25707 Filed 10-7-15; 8:45 am]

BILLING CODE 4310-VH-P